DEPARTMENT OF ENERGY

Federal Energy Regulatory Commission

[Docket No. CP18-332-000]

Notice of Intent To Prepare an Environmental Assessment for the Proposed El Paso Natural Gas Company, LLC. South Mainline Expansion Project, and Request for Comments on Environmental Issues

The staff of the Federal Energy Regulatory Commission (FERC or Commission) will prepare an environmental assessment (EA) that will discuss the environmental impacts of the South Mainline Expansion Project involving construction and operation of facilities by El Paso Natural Gas Company, L.L.C. (EPNG) in Hudspeth and El Paso Counties, Texas; Luna County, New Mexico; and Cochise County, Arizona. The Commission will use this EA in its decision-making process to determine whether the project is in the public convenience and necessity.

This notice announces the opening of the scoping process the Commission will use to gather input from the public and interested agencies on the project. You can make a difference by providing us with your specific comments or concerns about the project. Your comments should focus on the potential environmental effects, reasonable alternatives, and measures to avoid or lessen environmental impacts.

Your input will help the Commission staff determine what issues they need to evaluate in the EA. To ensure that your comments are timely and properly recorded, please send your comments so that the Commission receives them in Washington, DC on or before 5:00 p.m. Eastern Daylight Time on July 9, 2018.

If you sent comments on this project to the Commission before the opening of this docket on April 27, 2018, you will need to file those comments in Docket No. CP18-332-000 to ensure they are considered as part of this proceeding.

This notice is being sent to the Commission's current environmental mailing list for this project. State and local government representatives should notify their constituents of this proposed project and encourage them to comment on their areas of concern.

If you are a landowner receiving this notice, a pipeline company representative may contact you about the acquisition of an easement to construct, operate, and maintain the proposed facilities. The company would seek to negotiate a mutually acceptable agreement. However, if the Commission approves the project, that approval conveys with it the right of eminent domain. Therefore, if easement negotiations fail to produce an agreement, the pipeline company could initiate condemnation proceedings where compensation would be determined in accordance with state law.

EPNG provided landowners with a fact sheet prepared by the FERC entitled An Interstate Natural Gas Facility On My Land? What Do I Need To Know? This fact sheet addresses a number of typically asked questions, including the use of eminent domain and how to participate in the Commission's proceedings. It is also available for viewing on the FERC website (www.ferc.gov).

Public Participation

For your convenience, there are three methods you can use to submit your comments to the Commission. The Commission encourages electronic filing of comments and has expert staff available to assist you at (202) 502-8258 or FercOnlineSupport@ferc.gov. Please carefully follow these instructions so that your comments are properly recorded.

(1) You can file your comments electronically using the eComment feature on the Commission's website (www.ferc.gov) under the link to Documents and Filings. This is an easy method for submitting brief, text-only comments on a project;

(2) You can file your comments electronically by using the eFiling feature on the Commission's website (www.ferc.gov) under the link to Documents and Filings. With eFiling, you can provide comments in a variety of formats by attaching them as a file with your submission. New eFiling users must first create an account by clicking on eRegister. If you are filing a comment on a particular project, please select Comment on a Filing as the filing type; or

(3) You can file a paper copy of your comments by mailing them to the following address. Be sure to reference the project docket number (CP18-332-000) with your submission: Kimberly D. Bose, Secretary, Federal Energy Regulatory Commission, 888 First Street NE, Room 1A, Washington, DC 20426.

Summary of the Proposed Project

EPNG's project would consist of:

• Construction of an approximately 17-mile-long, 30-inch-diameter loop line ¹ adjacent to existing EPNG Line No. 1100 and Line No. 1103 between mileposts 174.5 and 191.5 in El Paso and Hudspeth Counties, Texas.

¹ A pipeline loop is a segment of pipe constructed parallel to an existing pipeline to increase capacity.

• Construction of the new 13,220-horsepower Red Mountain Compressor Station at approximate milepost 301.2 of Line No. 1100 and Line No. 1103 in Luna County, New Mexico.

• Construction of the new 13,220-horsepower Dragoon Compressor Station to be co-located with EPNG's existing Willcox Compressor Station at approximate milepost 406.9 of Line No. 1100 and Line No. 1103 in Cochise County, Arizona.

Appendix 1 shows the general location of the project facilities.²

² The appendices referenced in this notice will not appear in the Federal Register. Copies of appendices were sent to all those receiving this notice in the mail and are available at www.ferc.gov using the link called “eLibrary” or from the Commission's Public Reference Room, 888 First Street NE, Washington, DC 20426, or call (202) 502-8371. For instructions on connecting to eLibrary, refer to the last page of this notice.

Land Requirements for Construction

The three project locations proposed by EPNG include approximately 418.4 combined acres of land, all of which would be temporarily disturbed during construction. Operational and maintenance areas (permanent disturbances) for these three locations would be approximately 162.0 acres. Land requirements for each proposed facility are summarized below:

Pipeline Loop

Most of the centerline of the proposed new 17-mile-long pipeline loop would be sited 30 feet south of EPNG's existing Line No. 1100, in an expanded easement. From mileposts (MP) 189.2 to 191.5 (within the Homestead Meadows residential area), the pipeline would be sited 20 feet south of Line 1100, wholly within the existing EPNG easement. During construction, EPNG would use a typical construction work area of approximately 80 feet in width. However, to account for the additional pipeline depth and workspace requirements in the sand dune area (MP 188.5 to MP 189.2), EPNG proposes a construction area 190 feet in width. No additional construction work area outside of the existing easement is proposed in the residential area. The total area disturbed during pipeline construction, including contractor yards and staging areas, would be 279.0 acres. For operation of the loop, EPNG proposes to maintain a 60-foot-wide permanent right-of-way for most of its length, except in the area of the sand dunes, where a 100-foot-wide permanent right-of-way would be maintained.

Red Mountain Compressor Station

The proposed Red Mountain Compressor Station would be entirely within the EPNG-owned land parcel which also contains the previously abandoned Deming Compressor Station. Construction of the new compressor facilities would temporarily disturb approximately 78.2 acres within the existing site, with 6.2 acres being permanently maintained for the new aboveground facilities.

Dragoon Compressor Station

The proposed Dragoon Compressor station and its access road would be on the same site that currently contains EPNG's existing Willcox Compressor Station. Construction of the new compressor facilities would temporarily disturb approximately 61.2 acres within the existing site, with approximately 6.4 acres being permanently maintained for the new aboveground facilities.

The EA Process

The National Environmental Policy Act (NEPA) requires the Commission to take into account the environmental impacts that could result from an action whenever it considers the issuance of a Certificate of Public Convenience and Necessity. NEPA also requires us ³ to discover and address concerns the public may have about proposals. This process is referred to as scoping. The main goal of the scoping process is to focus the analysis in the EA on the important environmental issues. By this notice, the Commission requests public comments on the scope of the issues to address in the EA. We will consider all filed comments during the preparation of the EA.

³ We, us, and our refer to the environmental staff of the Commission's Office of Energy Projects.

In the EA we will discuss impacts that could occur as a result of the construction and operation of the proposed project under these general headings:

• Geology and soils;

• land use;

• cultural resources;

• vegetation and wildlife;

• air quality and noise;

• endangered and threatened species;

• socioeconomics;

• public safety; and

• cumulative impacts.

We will also evaluate reasonable alternatives to the proposed project or portions of the project, and make recommendations on how to lessen or avoid impacts on the various resource areas.

The EA will present our independent analysis of the issues. The EA will be available in the public record through eLibrary. Depending on the comments received during the scoping process, we may also publish and distribute the EA to the public for an allotted comment period. We will consider all comments on the EA before making our recommendations to the Commission. To ensure we have the opportunity to consider and address your comments, please carefully follow the instructions in the Public Participation section, beginning on page 2 of this notice.

With this notice, we are asking agencies with jurisdiction by law and/or special expertise with respect to the environmental issues of this project to formally cooperate with us in the preparation of the EA.⁴ Agencies that would like to request cooperating agency status should follow the instructions for filing comments provided under the Public Participation section of this notice.

⁴ The Council on Environmental Quality regulations addressing cooperating agency responsibilities are at Title 40, Code of Federal Regulations, Part 1501.6.

Consultations Under Section 106 of the National Historic Preservation Act

In accordance with the Advisory Council on Historic Preservation's implementing regulations for section 106 of the National Historic Preservation Act, we are using this notice to initiate consultation with the applicable State Historic Preservation Offices (SHPO), and to solicit their views and those of other government agencies, interested Indian tribes, and the public on the project's potential effects on historic properties.⁵

⁵ The Advisory Council on Historic Preservation's regulations are at Title 36, Code of Federal Regulations, Part 800. Those regulations define historic properties as any prehistoric or historic district, site, building, structure, or object included in or eligible for inclusion in the National Register of Historic Places.

We will define the project-specific Area of Potential Effects (APE) in consultation with the SHPOs as the project develops. On natural gas facility projects, the APE at a minimum encompasses all areas subject to ground disturbance (examples include construction right-of-way, contractor/pipe storage yards, compressor stations, and access roads). Our EA for this project will document our findings on the impacts on historic properties and summarize the status of consultations under section 106.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments on the project.

We will update the environmental mailing list as the analysis proceeds to ensure that we send the information related to this environmental review to all individuals, organizations, and government entities interested in and/or potentially affected by the proposed project.

If we publish and distribute the EA, copies of the EA will be sent to the environmental mailing list for public review and comment. If you would prefer to receive a paper copy of the document instead of the CD version or would like to remove your name from the mailing list, please return the attached Information Request (appendix 2).

Additional Information

Additional information about the project is available from the Commission's Office of External Affairs, at (866) 208-FERC, or on the FERC website at www.ferc.gov using the eLibrary link. Click on the eLibrary link, click on General Search and enter the docket number, excluding the last three digits in the Docket Number field (i.e., CP18-332). Be sure you have selected an appropriate date range.

For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Finally, public sessions or site visits will be posted on the Commission's calendar located at www.ferc.gov/EventCalendar/EventsList.aspx along with other related information.

Dated: June 7, 2018.
Nathaniel J. Davis, Sr.,
Deputy Secretary.

[FR Doc. 2018-12667 Filed 6-12-18; 8:45 am]

BILLING CODE 6717-01-P